DEPARTMENT OF COMMERCE

International Trade Administration

[A-427-820]

Stainless Steel Bar from France: Preliminary Results of Antidumping Duty Administrative Review

AGENCY: Import Administration, International Trade Administration, Department of Commerce.

SUMMARY: In response to a timely request by Ascometal, S.A. (Ascometal), the Department of Commerce (the Department) is conducting an administrative review of the antidumping duty order on stainless steel bar (SSB) from France with respect to Ascometal. The period of review (POR) is March 1, 2006, through February 28, 2007.

We preliminarily determine that Ascometal did not sell SSB below normal value (NV) during the POR. Interested parties are invited to comment on the preliminary results. If the preliminary results are adopted in our final results of administrative review, we will instruct U.S. Customs and Border Protection (CBP) to assess antidumping duties on all appropriate entries.

EFFECTIVE DATE: March 31, 2008.

FOR FURTHER INFORMATION CONTACT: David Goldberger or Terre Keaton Stefanova, AD/CVD Operations, Office 2, Import Administration, International Trade Administration, U.S. Department of Commerce, 14th Street and Constitution Avenue, NW, Washington, DC 20230; telephone: (202) 482-4136 or (202) 482-1280, respectively.

SUPPLEMENTARY INFORMATION:

Background

On March 7, 2002, the Department of Commerce (the Department) published in the Federal Register an antidumping duty order on SSB from France. See Antidumping Duty Order: Stainless Steel Bar from France, 67 FR 10385 (March 7, 2002). On March 2, 2007, the Department published in the Federal Register a notice of “Opportunity To Request Administrative Review” of the antidumping duty order on SSB from France for the POR. See Antidumping or Countervailing Duty Order, Finding, or Suspended Investigation; Opportunity to Request Administrative Review, 72 FR 9505 (March 2, 2007). On March 30 and April 2, 2007, Ugitech, S.A. (Ugitech) and Ascometal submitted timely letters requesting that the Department conduct an administrative review of their sales of SSB made during the POR, pursuant to section 751 of the Tariff Act of 1930, as amended (the Act). On April 27, 2007, the Department published a notice of initiation of an administrative review with respect to Ascometal and Ugitech. See Initiation of Antidumping and Countervailing Duty Reviews, 72 FR 20986 (April 27, 2007). On April 30, 2007, we issued antidumping duty questionnaires to both companies.

On May 24, 2007, Ugitech timely withdrew its request for an administrative review. The Department published the rescission of the administrative review with respect to Ugitech on June 15, 2007. See Stainless Steel Bar from France: Notice of Partial Rescission of Antidumping Duty Administrative Review, 72 FR 33202 (June 15, 2007).

Ascometal submitted responses to sections A, B, and C of the Department's questionnaire in June 2007. We issued a supplemental questionnaire in July 2007, and received a response to this questionnaire later that month. Ascometal provided additional information in response to Department requests during November 2007.

On June 27, 2007, the petitioners¹ requested that the Department initiate a sales-below-cost investigation of Ascometal. On August 8, 2007, we initiated this investigation. See Memorandum to James Maeder, Director, Office 2, AD/CVD Operations, entitled “Petitioners' Allegation of Sales Below the Cost of Production for Ascometal S.A.,” dated August 8, 2007 (COP Initiation Memo). On August 9, 2007, we instructed Ascometal to respond to section D of the Department's questionnaire. On September 10, 2007, we granted Ascometal's request to report its cost of production (COP) based on the period January 1, 2006, through December 31, 2006, rather than the POR. Ascometal submitted its response to section D of the questionnaire on September 28, 2007. On October 12, 2007, we issued a supplemental section D questionnaire to Ascometal, to which Ascometal submitted its response on November 2, 2007.

¹ The petitioners include the following companies: Carpenter Technology Corporation; Crucible Specialty Metals Division, Crucible Materials Corporation; and Electroalloy Corporation, a Division of G.O. Carlson, Inc.

On November 2, 2007, we extended the time limit for the preliminary results in this review until March 31, 2008. See Notice of Extension of Time Limit for Preliminary Results in Antidumping Duty Administrative Review: Stainless Steel Bar From France, 72 FR 62209 (November 2, 2007).

We conducted a verification of Ascometal's reported U.S. sales data in December 2007, and issued our verification report on February 5, 2008. In response to our February 6, 2008, request, Ascometal submitted a revised U.S. sales database reflecting certain verification corrections and findings on February 15, 2008.

Scope of the Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The SSB subject to this order is currently classifiable under subheadings 7222.11.00.05, 7222.11.00.50, 7222.19.00.05, 7222.19.00.50, 7222.20.00.05, 7222.20.00.45, 7222.20.00.75, and 7222.30.00.00 of the Harmonized Tariff Schedule of the United States (HTSUS). Although the HTSUS subheadings are provided for convenience and customs purposes, the written description of the scope of this order is dispositive.

Fair Value Comparisons

To determine whether sales of SSB by Ascometal to the United States were made at less than NV, we compared constructed export price (CEP) to the NV, as described in the “Constructed Export Price” and “Normal Value” sections of this notice.

Pursuant to section 777A(d)(2) of the Act, we compared the CEPs of individual U.S. transactions to the weighted-average NV of the foreign like product where there were sales made in the ordinary course of trade, as discussed in the “Cost of Production Analysis” section below.

Product Comparisons

In accordance with section 771(16) of the Act, we considered all products produced by Ascometal covered by the description in the “Scope of the Order” section, above, to be foreign like products for purposes of determining appropriate product comparisons to U.S. sales. Pursuant to 19 CFR 351.414(e)(2), we compared U.S. sales to sales made in the home market within the contemporaneous window period, which extends from three months prior to the month of the U.S. sale until two months after the sale. Where there were no sales of identical merchandise in the comparison market made in the ordinary course of trade to compare to U.S. sales, we compared U.S. sales to sales of the most similar foreign like product made in the ordinary course of trade. In making the product comparisons, we matched foreign like products based on the physical characteristics reported by Ascometal in the following order: general type of finish, grade, remelting process, type of final finishing operation, shape, and size range.

Constructed Export Price

We calculated CEP in accordance with section 772(b) of the Act because the subject merchandise was sold in the United States by Ascometal's affiliate, Lucchini USA Inc. (LUSA), to unaffiliated purchasers.

We based CEP on the delivered prices to unaffiliated purchasers in the United States. We made deductions from the starting price for movement expenses in accordance with section 772(c)(2)(A) of the Act. These expenses included, where appropriate, foreign inland freight, foreign brokerage and handling, ocean freight, transport insurance, U.S. inland freight expenses, U.S. customs duties and fees (including harbor maintenance fees and merchandise processing fees), and port unloading and sorting charges. In accordance with section 772(d)(1) of the Act, we deducted those selling expenses associated with economic activities occurring in the United States, including direct selling expenses (credit expenses, warranty expenses, and credit insurance expenses), indirect selling expenses, and inventory carrying costs.

Ascometal did not report a shipment date and the credit expense for one U.S. sale. As facts available under section 776(a)(1) of the Act, we calculated the imputed credit expense for this sale by using the reported date of sale as the date of shipment and applying the credit expense calculation methodology reported in Ascometal's questionnaire response. For further discussion, see “Preliminary Results Notes and Margin Calculation for Ascometal, S.A.,” Memorandum to the File dated concurrently with this notice.

Normal Value

A. Home Market Viability

In order to determine whether there was a sufficient volume of sales in the home market to serve as a viable basis for calculating NV, we compared the volume of home market sales of the foreign like product to the volume of U.S. sales of the subject merchandise, in accordance with section 773(a)(1)(C) of the Act.

Because Ascometal's aggregate volume of home market sales of the foreign like product was greater than five percent of its aggregate volume of U.S. sales of the subject merchandise, we determined that its home market was viable. Therefore, we used home market sales as the basis for NV in accordance with section 773(a)(1)(B) of the Act.

B. Level of Trade

Section 773(a)(1)(B)(i) of the Act states that, to the extent practicable, the Department will calculate NV based on sales at the same level of trade (LOT) as the export price (EP) or CEP. Sales are made at different LOTs if they are made at different marketing stages (or their equivalent). See 19 CFR 351.412(c)(2). Substantial differences in selling activities are a necessary, but not sufficient, condition for determining that there is a difference in the stages of marketing. See id. See also Notice of Final Determination of Sales at Less Than Fair Value: Certain Cut-to-Length Carbon Steel Plate From South Africa, 62 FR 61731, 61732 (November 19, 1997) (Plate from South Africa). In order to determine whether the comparison sales are at different stages in the marketing process than the U.S. sales, we review the distribution system in each market (i.e., the chain of distribution), including selling functions, class of customer (customer category), and the level of selling expenses for each type of sale.

Pursuant to section 773(a)(1)(B)(i) of the Act, in identifying LOTs for EP and comparison market sales (i.e., NV based on either home market or third country prices), we consider the starting prices before any adjustments. Where NV is based on constructed value (CV), we determine the NV LOT based on the LOT of the sales from which we derive selling expenses, general and administrative expenses, and profit for CV, where possible. See 19 CFR 351.412(c). For CEP sales, we consider only the selling activities reflected in the price after the deduction of expenses and profit under section 772(d) of the Act. See id.; Micron Technology, Inc. v. United States, 243 F. 3d 1301, 1314-15 (Fed. Cir. 2001). When the Department is unable to match U.S. sales to sales of the foreign like product in the comparison market at the same LOT as the EP or CEP, the Department may compare the U.S. sale to sales at a different LOT in the comparison market. In comparing EP or CEP sales to sales at a different LOT in the comparison market, where available data make it practicable, we make an LOT adjustment under section 773(a)(7)(A) of the Act. Finally, for CEP sales only, if the NV LOT is more remote from the factory than the CEP LOT and there is no basis for determining whether the difference in LOTs between NV and CEP affects price comparability (i.e., no LOT adjustment was practicable), the Department shall grant a CEP offset, as provided in section 773(a)(7)(B) of the Act. See Plate from South Africa, 62 FR at 61732-33.

We obtained information from Ascometal regarding the marketing stages involved in making the reported comparison market and U.S. sales, including a description of the selling activities performed for each channel of distribution.

Ascometal reported that it made CEP sales to unaffiliated distributors in the U.S. market through its U.S. affiliate LUSA in a single channel of distribution. We examined the selling activities performed for this channel (after deducting expenses and profit pursuant to section 772(d) of the Act), and found that Ascometal performed the following selling functions: invoicing to LUSA, warranty claim services, technical support services, and freight and delivery services from France to the U.S. port. These selling activities were performed at the same relative level of intensity for all CEP sales. Accordingly, we find that all CEP sales constitute one LOT.

With respect to the home market, Ascometal sold the subject merchandise to unaffiliated distributors through a single channel of distribution. We examined the selling activities performed for this channel, and found that Ascometal performed the following selling functions: price negotiations with customers, invoicing to customers, warranty claim services, and freight and delivery services from the factory to the customer. These selling activities were performed at the same relative level of intensity for all home market sales. Accordingly, we find that all home market sales constitute one LOT.

Finally, we compared the CEP LOT to the home market LOT and found that the selling functions performed for home market customers are virtually the same as performed for U.S. customers, and that these selling functions were performed at the same relative level of intensity, with the exception of price negotiation and technical support services. The fact that Ascometal conducts price negotiations only for home market sales and performs technical support services only for U.S. sales is not sufficient to conclude that the home market and U.S. sales were made at a different LOT. Furthermore, Ascometal stated at page B-18 of its June 20, 2007, response to section B of the questionnaire that it “does not believe there to be a difference in levels of trade between the home and U.S. markets.” Therefore, we conclude that Ascometal's U.S. and home market sales were made at the same LOT, and as a result, no LOT adjustment or CEP offset under section 773(a)(7) of the Act is warranted.

Cost of Production Analysis

Based on our analysis of the petitioners' allegations that Ascometal made home market sales below the COP, we found that there were reasonable grounds to believe or suspect that Ascometal's sales of SSB in the home market were made at prices below their COP. Accordingly, pursuant to section 773(b) of the Act, we initiated a sales-below-cost investigation to determine whether Ascometal's sales were made at prices below their respective COPs. See COP Initiation Memo.

A. Calculation of Cost of Production

In accordance with section 773(b)(3) of the Act, we calculated Ascometal's COP based on the sum of Ascometal's costs of materials and fabrication for the foreign like product, plus amounts for general and administrative expenses and interest expenses (see “Test of Home Market Sales Prices” section below for treatment of home market selling expenses). The Department relied on the COP data submitted by Ascometal in its most recent supplemental section D questionnaire response, dated November 2, 2007, for the COP calculation.

B. Test of Home Market Sales Prices

On a product-specific basis, we compared the weighted-average COP to the home market sales of the foreign like product, as required under section 773(b) of the Act, in order to determine whether the sale prices were below the COP. For purposes of this comparison, we used COP exclusive of selling expenses. The prices (inclusive of billing adjustments, where appropriate) were exclusive of any applicable movement charges, and direct and indirect selling expenses, as described below under the “Price-to-Price Comparisons” section.²

² Ascometal reported that it did not incur any packing expenses.

C. Results of the COP Test

In determining whether to disregard home market sales made at prices below the COP, we examined, in accordance with sections 773(b)(1)(A) and (B) of the Act whether: (1) within an extended period of time, such sales were made in substantial quantities; and (2) such sales were made at prices which permitted the recovery of all costs within a reasonable period of time in the normal course of trade. Where less than 20 percent of the respondent's home market sales of a given product are at prices less than the COP, we do not disregard any below-cost sales of that product, because we determine that in such instances the below-cost sales were not made within an extended period of time and in “substantial quantities.” Where 20 percent or more of a respondent's sales of a given product are at prices less than the COP, we disregard the below-cost sales because: (1) they were made within an extended period of time in “substantial quantities,” in accordance with sections 773(b)(2)(B) and (C) of the Act, and (2) based on our comparison of prices to the weighted-average COPs for the POR, they were at prices which would not permit the recovery of all costs within a reasonable period of time, in accordance with section 773(b)(2)(D) of the Act.

We found that less than 20 percent of Ascometal's home market sales of a given product were at prices less than the COP. Accordingly, we did not disregard any below-cost sales in determining NV.

Price-to-Price Comparisons

We calculated NV based on delivered prices to unaffiliated customers. We made adjustments, where appropriate, to the starting price for billing adjustments. See 19 CFR 351.401(c). We made deductions, where appropriate, from the starting price for inland freight and inland insurance, under section 773(a)(6)(B)(ii) of the Act.

We made adjustments for differences in costs attributable to differences in the physical characteristics of the merchandise in accordance with section 773(a)(6)(C)(ii) of the Act and 19 CFR 351.411. In addition, we made adjustments under section 773(a)(6)(C)(iii) of the Act and 19 CFR 351.410 for differences in circumstances of sale for imputed credit expenses and liability insurance premium expenses.

Ascometal did not incur packing costs in either the U.S. or home market. Accordingly, no adjustment was warranted under section 773(a)(6)(A) and (B) of the Act.

Currency Conversion

We made currency conversions in accordance with section 773A(a) of the Act based on the exchange rates in effect on the dates of the U.S. sales as certified by the Federal Reserve Bank.

Preliminary Results of Review

As a result of this review, we preliminarily determine that the weighted-average dumping margin for the period March 1, 2006, through February 28, 2007, is as follows:

Manufacturer/Exporter | Percent Margin
Ascometal S.A. | 0.00

Disclosure and Public Hearing

The Department will disclose to parties the calculations performed in connection with these preliminary results within five days of the date of publication of this notice. See 19 CFR 351.224(b). Interested parties may submit case briefs not later than 30 days after the date of publication of this notice. See 19 CFR 351.309(c)(1)(ii). Rebuttal briefs, limited to issues raised in the case briefs, may be filed not later than five days after the time limit for filing case briefs. See 19 CFR 351.309(d)(1). Parties who submit case briefs or rebuttal briefs in this proceeding are requested to submit with each argument: 1) a statement of the issue; 2) a brief summary of the argument; and 3) a table of authorities.

Interested parties who wish to request a hearing must submit a written request to the Assistant Secretary for Import Administration, Room 1870, within 30 days of the date of publication of this notice. Requests should contain: 1) the party's name, address and telephone number; 2) the number of participants; and 3) a list of issues to be discussed. See 19 CFR 351.310(c). Issues raised in the hearing will be limited to those raised in the respective case briefs.

The Department will issue the final results of this administrative review, including the results of its analysis of issues raised in any written briefs, not later than 120 days after the date of publication of this notice, pursuant to section 751(a)(3)(A) of the Act.

Assessment Rates

The Department shall determine, and CBP shall assess, antidumping duties on all appropriate entries, in accordance with 19 CFR 351.212. The Department will issue appropriate appraisement instructions for the companies subject to this review directly to CBP 15 days after publication of the final results of this review.

For assessment purposes, we calculated importer-specific ad valorem duty assessment rates based on the ratio of the total amount of dumping margins calculated for the examined sales to the total entered value of those same sales. We will instruct CBP to assess antidumping duties on all appropriate entries covered by this review if any importer-specific assessment rate calculated in the final results of this review is above de minimis (i.e., at or above 0.50 percent). See 19 CFR 351.106(c)(1). The final results of this review shall be the basis for the assessment of antidumping duties on entries of merchandise covered by this review.

The Department clarified its “automatic assessment” regulation on May 6, 2003. See Antidumping and Countervailing Duty Proceedings: Assessment of Antidumping Duties, 68 FR 23954 (May 6, 2003) (Assessment Policy Notice). This clarification will apply to entries of subject merchandise during the POR produced by companies included in this review for which the reviewed companies did not know that the merchandise they sold to the intermediary (e.g., a reseller, trading company, or exporter) was destined for the United States. In such instances, we will instruct CBP to liquidate unreviewed entries at the all-others rate if there is no rate for the intermediary involved in the transaction. See Assessment Policy Notice for a full discussion of this clarification.

Discontinuation of Cash Deposit Requirements

On January 31, 2008, the U.S. International Trade Commission determined, pursuant to section 751(c) of the Act (i.e., as a result of a five-year “sunset” review), that revocation of the antidumping duty order on the subject merchandise would not be likely to lead to continuation or recurrence of material injury to an industry in the United States within a reasonably foreseeable time. See Stainless Steel Bar From France, Germany, Italy, Korea, and The United Kingdom, 73 FR 5869 (January 31, 2008). Accordingly, the antidumping duty order on SSB from France was revoked effective March 7, 2007. See Revocation of Antidumping Duty Orders on Stainless Steel Bar From France, Germany, Italy, South Korea, and the United Kingdom and the Countervailing Duty Order on Stainless Steel Bar From Italy, 73 FR 7258 (February 7, 2008). As a result, we have instructed CBP to discontinue collection of cash deposits of antidumping duties on entries of the subject merchandise made on or after March 7, 2007.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review and notice are published in accordance with sections 751(a)(1) and 777(i)(1) of the Act and 19 CFR 351.221.

Dated: March 25, 2008.
David M. Spooner,
Assistant Secretary for Import Administration.

[FR Doc. E8-6568 File 3-28-08; 8:45 am]

BILLING CODE 3510-DS-S